ENVIRONMENTAL PROTECTION AGENCY

40 CFR Part 721

[EPA-HQ-OPPT-2023-0245; FRL-10985-01-OCSPP]

RIN 2070-AB27

Significant New Use Rules on Certain Chemical Substances (23-2.5e)

AGENCY: Environmental Protection Agency (EPA).

ACTION: Proposed rule.

SUMMARY: EPA is proposing significant new use rules (SNURs) under the Toxic Substances Control Act (TSCA) for certain chemical substances that were the subject of premanufacture notices (PMNs) and are also subject to an Order issued by EPA pursuant to TSCA. The SNURs require persons who intend to manufacture (defined by statute to include import) or process any of these chemical substances for an activity that is proposed as a significant new use by this rule to notify EPA at least 90 days before commencing that activity. The required notification initiates EPA's evaluation of the use, under the conditions of use for that chemical substance, within the applicable review period. Persons may not commence manufacture or processing for the significant new use until EPA has conducted a review of the notice, made an appropriate determination on the notice, and has taken such actions as are required by that determination.

DATES: Comments must be received on or before July 20, 2023.

ADDRESSES: Submit your comments, identified by docket identification (ID) number EPA-HQ-OPPT-2023-0245, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information contact: William Wysong, New Chemicals Division (7405M), Office of Pollution Prevention and Toxics, Environmental Protection Agency, 1200 Pennsylvania Ave. NW, Washington, DC 20460-0001; telephone number: (202) 564-4163; email address: wysong.william@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What is the Agency's authority for taking this action?

TSCA section 5(a)(2) (15 U.S.C. 2604(a)(2)) authorizes EPA to determine that a use of a chemical substance is a “significant new use.” EPA must make this determination by rule after considering all relevant factors, including the four TSCA section 5(a)(2) factors listed in Unit II.

B. What action is the Agency taking?

EPA is proposing these SNURs under TSCA section 5(a)(2) (15 U.S.C. 2604(a)(2)) for certain chemical substances that were the subject of PMNs. These proposed SNURs would require persons to notify EPA at least 90 days before commencing the manufacture or processing of any of these chemical substances for an activity proposed as a significant new use. Receipt of such notices would allow EPA to assess risks and, if appropriate, to regulate the significant new use before it may occur.

The docket for these proposed SNURs, identified as docket ID number EPA-HQ-OPPT-2023-0245, includes information considered by the Agency in developing these proposed SNURs.

C. Why is the Agency taking this action?

The Agency is proposing these SNURs to ensure that EPA receives timely advanced notice of any future manufacturing (including importing) or processing of the chemical substances subject to these proposed SNURs for uses identified as significant new uses, and to ensure that an appropriate determination (relevant to the potential risks associated with such manufacturing (including importing), processing, distribution in commerce, use and disposal) has been issued prior to the commencement of such manufacturing (including importing) or processing. The proposed SNURs are necessary to ensure that manufacturing (including import) or processing for significant new uses cannot proceed until EPA has responded to the planned new use circumstances by taking the required actions under TSCA sections 5(e) or 5(f) in the event that EPA determines that: (1) The significant new use presents an unreasonable risk under the conditions of use (without consideration of costs or other nonrisk factors, and including an unreasonable risk to a potentially exposed or susceptible subpopulation (PESS) identified as relevant by EPA); (2) The information available to EPA is insufficient to permit a reasoned evaluation of the health and environmental effects of the significant new use; (3) In the absence of sufficient information, the manufacturing (including importing), processing, distribution in commerce, use, or disposal of the substance, or any combination of such activities, may present an unreasonable risk (without consideration of costs or other nonrisk factors, and including an unreasonable risk to a PESS identified as relevant by EPA); or (4) There is substantial production and sufficient potential for environmental release or human exposure (as defined in TSCA section 5(a)(3)(B)(ii)(II)). For manufacturing (including importing) or processing for the significant new use to proceed after EPA has made one of these four determinations, EPA must take actions under TSCA sections 5(e) or 5(f) to protect health and the environment. However, EPA may also determine that the significant new use is not likely to present an unreasonable risk under TSCA section 5(a)(3)(C), after which manufacturing (including importing) or processing for the significant new use may proceed.

The rationale and objectives for this proposed SNUR are further explained in Unit II.B.

D. Does this action apply to me?

1. General applicability.

This action may apply to you if you manufacture (defined by statute to include import), process, or use the chemical substances addressed in this proposed rule. The following list of North American Industrial Classification System (NAICS) codes is not intended to be exhaustive, but rather provides a guide to help readers determine whether this document applies to them. Potentially affected entities may include:

• Manufacturers or processors of one or more subject chemical substances (NAICS codes 325 and 324110), e.g., chemical manufacturing and petroleum refineries.

2. Applicability to importers and exporters.

This action may also affect certain entities through pre-existing import certification and export notification rules under TSCA. Chemical importers are subject to the TSCA section 13 (15 U.S.C. 2612) import provisions promulgated at 19 CFR 12.118 through 12.127 (see also 19 CFR 127.28), and the EPA policy in support of import certification at 40 CFR part 707, subpart B. Chemical importers must certify that the shipment of the chemical substance complies with all applicable rules and Orders under TSCA, including regulations issued under TSCA sections 5, 6, 7 and Title IV.

In addition, pursuant to 40 CFR 721.20, this action may also apply to any persons who export or intend to export a chemical substance that is the subject of this proposed rule on or after July 20, 2023 are subject to the export notification provisions of TSCA section 12(b) (15 U.S.C. 2611(b)) (see 40 CFR 721.20), and must comply with the export notification requirements in 40 CFR part 707, subpart D.

E. What are the estimated incremental impacts of this action?

EPA has evaluated the potential costs of establishing SNUR reporting requirements for potential manufacturers (including importers) and processors of the chemical substances included in this proposed rule. This analysis, which is available in the docket, is briefly summarized here.

1. Estimated costs for SNUN submissions.

If a SNUN is submitted, costs are an estimated $26,700 per SNUN submission for large business submitters and $11,000 for small business submitters. These estimates include the cost to prepare and submit the SNUN (including registration for EPA's Central Data Exchange (CDX)), and the payment of a user fee. Businesses that submit a SNUN would be subject to either a $19,020 user fee required by 40 CFR 700.45(c)(2)(ii) and (d), or, if they are a small business as defined at 13 CFR 121.201, a reduced user fee of $3,300 (40 CFR 700.45(c)(1)(ii) and (d)) per fiscal year 2022. The costs of submission for SNUNs will not be incurred by any company unless a company decides to pursue a significant new use as defined in this proposed SNUR. Additionally, these estimates reflect the costs and fees as they are known at the time of this rulemaking.

2. Estimated costs for export notifications.

EPA has also evaluated the potential costs associated with the export notification requirements under TSCA section 12(b) and the implementing regulations at 40 CFR part 707, subpart D, which require exporters to notify EPA if they export or intend to export a chemical substance or mixture for which, among other things, a rule has been proposed or promulgated under TSCA section 5. For persons exporting a substance that is the subject of a SNUR, a one-time notice to EPA must be provided for the first export or intended export to a particular country. The total costs of export notification will vary by chemical, depending on the number of required notifications (i.e., the number of countries to which the chemical is exported). While EPA is unable to make any estimate of the likely number of export notifications for the chemical substances covered by these proposed SNURs, as stated in the accompanying economic analysis, the estimated cost of the export notification requirement on a per unit basis is approximately $106.

F. What should I consider as I prepare my comments for EPA?

1. Submitting CBI.

Do not submit this information to EPA through https://www.regulations.gov or email. If you wish to include CBI in your comment, please follow the applicable instructions at https://www.epa.gov/dockets/commenting-epa-dockets#rules and clearly mark the part or all of the information that you claim to be CBI. In addition to one complete version of the comment that includes information claimed as CBI, a copy of the comment that does not contain the information claimed as CBI must be submitted for inclusion in the public docket. Information so marked will not be disclosed except in accordance with procedures set forth in 40 CFR part 2.

2. Tips for preparing your comments.

When preparing and submitting your comments, see the commenting tips at https://www.epa.gov/dockets/commenting-epa-dockets.

II. Background

A. Significant New Use Determination

1. Determination factors.

TSCA section 5(a)(2) states that EPA's determination that a use of a chemical substance is a significant new use must be made after consideration of all relevant factors, including:

• The projected volume of manufacturing and processing of a chemical substance.

• The extent to which a use changes the type or form of exposure of human beings or the environment to a chemical substance.

• The extent to which a use increases the magnitude and duration of exposure of human beings or the environment to a chemical substance.

• The reasonably anticipated manner and methods of manufacturing, processing, distribution in commerce, and disposal of a chemical substance.

In addition to the factors enumerated in TSCA section 5(a)(2), the statute authorizes EPA to consider any other relevant factors.

2. Scientific standards, evidence, and available information.

EPA has used reasonably available information, as well as technical procedures, measures, methods, protocols, methodologies, and models consistent with the best available science, as applicable. These information sources supply information relevant to whether a particular use would be a significant new use, based on relevant factors including those listed under TSCA section 5(a)(2).

The clarity and completeness of the data, assumptions, methods, quality assurance, and analyses employed in EPA's decision are documented, as applicable and to the extent necessary for purposes of the proposed SNURs, in the references cited throughout the preamble of this proposed rule. The extent to which the various information, procedures, measures, methods, protocols, methodologies or models used in EPA's decision have been subject to independent verification or peer review is adequate to justify their use, collectively, in the record for a significant new use rule.

3. Determination for these chemical substances.

In determining what would constitute a significant new use for the chemical substances that are the subject of these proposed SNURs, EPA considered relevant information about the toxicity of the chemical substances and potential human exposures and environmental releases that may be associated with possible uses of these chemical substances, in the context of the four TSCA section 5(a)(2) factors listed in Unit II.A.1.

These proposed SNURs include PMN substances that are subject to Orders issued under TSCA section 5(e)(1)(A), as required by the determinations made under TSCA section 5(a)(3)(B). The TSCA Orders require protective measures to limit exposures or otherwise mitigate the potential unreasonable risk. The proposed SNURs identify significant new uses as any manufacturing, processing, use, distribution in commerce, or disposal that does not conform to the restrictions imposed by the underlying TSCA Orders, consistent with TSCA section 5(f)(4).

The 18 proposed rules also identify as an additional significant new use, manufacturing or processing of the chemical substances using feedstocks that contain any amount of contaminants listed in the proposed rules. This preamble also identifies the sources of data documenting the presence or absence of such contaminants in pyrolysis products derived from plastic waste. The 18 proposed rules identify as an additional significant new use the manufacturing or processing of the chemical substances using feedstocks that contain any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2-pyrrolidone (NMP). For purposes of this SNUR PFAS or per- and poly-fluoroalkyl substance means a chemical substance that contains at least one of these three structures:

(i) R-(CF2)-CF(R′)R″, where both the CF2 and CF moieties are saturated carbons;

(ii) R-CF2OCF2-R′, where R and R′ can either be F, O, or saturated carbons; or

(iii) CF3C(CF3)R′R″, where R′ and R″ can either be F or saturated carbons.

By identifying this additional significant new use, EPA is ensuring these substances cannot be manufactured or processed using feedstocks that contain these substances, without additional Agency review. EPA is determining that this is a significant new use because subsequent to issuance of the TSCA section 5(e) orders for these substances EPA became aware that the precursor chemicals for the PMN substances may contain contaminants of concern that were not previously identified. See the following references to sources of these chemical substances in this unit:

• US EPA (2016). “State of the Science White Paper: A Summary of Literature on the Chemical Toxicity of Plastics Pollution to Aquatic Life and Aquatic-Dependent Wildlife.” Document ID No. EPA-822-R-16-009 (2016). See https://www.epa.gov/sites/default/files/2016-12/documents/plastics-aquatic-life-report.pdf.

• European Chemicals Agency (August 2021), entitled “Chemical Recycling of Polymeric Materials from Waste in the Circular Economy Final Report.” See https://echa.europa.eu/documents/10162/1459379/chem_recycling_final_report_en.pdf/887c4182-8327-e197-0bc4-17a5d608de6e.

• Environmental Defense Fund Supply Chain Solutions Center (2022). Understanding Packaging Scorecard as referenced by the Environmental Defense Fund entitled “Key chemicals of concern in food packaging and food handling equipment.” See https://supplychain.edf.org/files/downloadable-TABLE-CoCs-in-Food-Packaging.pdf.

• Whitehead, Heather et al. (2023). “Directly Fluorinated Containers as a Source of Perfluoroalkyl Carboxylic Acids.” Environ. Sci. Technol. Lett. 2023, 10, 4, 350-355, Publication Date: March 6, 2023. See https://doi.org/10.1021/acs.estlett.3c00083.

• US EPA (2021). Research BRIEF: “Potential PFAS Destruction Technology: Pyrolysis and Gasification.” January 2021. See https://www.epa.gov/sites/default/files/2021-01/documents/pitt_research_brief_pyrolysis_final_jan_27_2021_508.pdf.

• Thoma, Eben et al. (2022). “Pyrolysis processing of PFAS-impacted biosolids, a pilot study.” Journal of the Air and Waste Management Association. February 2022. See https://doi.org/10.1080/10962247.2021.2009935.

• Turner et al. (2021). “Hazardous metal additives in plastics and their environmental impacts.” Environment International, Volume 156, November 2021, 106622. See https://www.sciencedirect.com/science/article/pii/S0160412021002476.

For each of the 18 proposed SNURs containing significant new uses not based on the Order requirements, EPA is also proposing to make the general reporting exemption described in 40 CFR 721.45(i) inapplicable to each SNUR to ensure that persons subject to the Order would also be subject to the significant new use notification requirements in this proposed rule, including those that are not based on Order requirements. 40 CFR 721.45(i) provides that the notification requirements of 40 CFR 721.25 do not apply, unless otherwise specified in a specific SNUR, if: “The person is operating under the terms of a consent order issued under TSCA section 5(e) applicable to that person. If a provision of such TSCA section 5(e) order is inconsistent with a specific significant new use identified in subpart E of 40 CFR part 721, abiding by the provision of the TSCA section 5(e) order exempts the person from submitting a significant new use notice for that specific significant new use.” EPA is now proposing these SNURs to require notice to and review by EPA before these chemicals are used in new ways that might create concerns due to increases in exposures or environmental releases.

B. Rationale and Objectives of This Proposed Rule

1. Rationale.

During review of the PMNs submitted for the chemical substances that are subject to these proposed SNURs, EPA concluded that regulation was warranted under TSCA section 5(e), pending the development of information sufficient to make reasoned evaluations of the health or environmental effects of the chemical substances. The basis for such findings is outlined in Unit III. Based on these findings, TSCA section 5(e) Orders requiring the use of appropriate exposure controls were negotiated with the PMN submitters. As a general matter, EPA believes it is necessary to follow the TSCA Orders with a SNUR that identifies the absence of those protective measures as significant new uses to ensure that all manufacturers and processors—not just the original submitter—are held to the same standard.

Subsequent to the issuance of TSCA section 5(e) orders for these substances EPA became aware that the precursor chemicals for the PMN substances may contain contaminants not previously identified, whose presence might indicate a risk that needs to be addressed.

2. Objectives.

EPA is proposing these SNURs for specific chemical substances which have undergone premanufacture review because the Agency wants:

• To identify as significant new uses any manufacturing, processing, use, distribution in commerce, or disposal that does not conform to the restrictions imposed by the underlying TSCA Orders, consistent with TSCA section 5(f)(4).

• To identify as an additional significant new use, manufacturing or processing of the chemical substances using feedstocks that contain any amount of the chemicals listed in proposed rules.

• To have an opportunity to review and evaluate data submitted in a SNUN before the notice submitter begins manufacturing or processing a listed chemical substance for the described significant new use.

• To be able to either determine that the prospective manufacture or processing is not likely to present an unreasonable risk, or to take necessary regulatory action associated with any other determination before the described significant new use of the chemical substance.

C. Applicability of General Provisions to These Proposed SNURs

General provisions for SNURs appear in 40 CFR part 721, subpart A. These provisions describe persons required to submit a Significant New Use Notice (SNUN), recordkeeping requirements, and exemptions to reporting requirements, among other things.

Provisions relating to user fees appear at 40 CFR part 700. Pursuant to 40 CFR 721.1(c), persons submitting a SNUN are subject to the same requirements and regulatory procedures as submitters of PMNs under TSCA section 5(a)(1)(A). These include the information submission requirements of TSCA sections 5(b) and 5(d)(1), the exemptions authorized by TSCA sections 5(h)(1), (h)(2), (h)(3), and (h)(5), and the regulations at 40 CFR part 720, except where modified in part 721.

Once EPA receives a SNUN, and before the manufacture or processing for the significant new use can commence, EPA must either determine that the use addressed in the SNUN is not likely to present an unreasonable risk of injury under the conditions of use for the chemical substance or take such regulatory action as is associated with an alternative determination. If EPA determines that the use is not likely to present an unreasonable risk, EPA is required under TSCA section 5(g) to make public, and submit for publication in the Federal Register, a statement of EPA's findings.

D. Applicability of the Proposed SNURs to Uses Occurring Before the Effective Date of the Final Rule

Any use that EPA determines, in the final rule, was ongoing as of the date of publication of this proposal and did not cease prior to issuance of the final rule, will not be designated as a significant new use in the final rule. EPA has no information to suggest that any of the significant new uses identified in this proposed rule are ongoing and, as explained below, has information indicating that none of the chemical substances subject to the SNURs proposed in this document are being manufactured or processed in the United States for commercial purposes.

The chemical substances subject to this proposed rule have undergone premanufacture review. In cases where EPA has not received a notice of commencement (NOC) and the chemical substance is not on the TSCA Inventory, no person may commence any activities without first submitting a PMN. Therefore, when EPA has received a PMN for a chemical substance but has not received a NOC for that same substance, the fact that a NOC has not been received is evidence that no manufacturing or processing of the chemical substance is occuring in the United States. EPA has not received a notice of commencement for any of the chemical substances in this proposed SNUR, which indicates that the substances have not been manufactured for commercial purposes, with or without the chemical substances that would constitute a significant new use.

As discussed in the Federal Register of April 24, 1990 (55 FR 17376 (FRL-3658-5)), EPA has decided that the intent of TSCA section 5(a)(1)(B) is best served by designating a use as a significant new use as of the date of publication of the proposed rule rather than as of the effective date of the final rule. The objective of EPA's approach is to ensure that a person cannot impede finalization of a SNUR by initiating a significant new use after publication of the proposed rule but before the effective date of the final rule. Uses arising after the publication of the proposed rule are distinguished from uses that are identified in the final rule as having been ongoing on the date of publication of the proposed rule. The former would be new uses, the latter ongoing uses, except that uses that are identified as ongoing as of the publication of the proposed rule would not be considered ongoing uses if they have ceased by the date of issuance of a final rule.

In the unlikely event that before a final rule becomes effective a person begins commercial manufacturing (including importing) or processing of the chemical substances for a use that is designated as a significant new use in that final rule, such a person would have to cease any such activity upon the effective date of the final rule. To resume their activities, these persons would have to first comply with all applicable SNUR notification requirements and wait until all TSCA prerequisites for the commencement of manufacture or processing have been satisfied.

Issuance of a SNUR for a chemical substance does not signify that the chemical substance is listed on the TSCA Chemical Substance Inventory (TSCA Inventory). Guidance on how to determine if a chemical substance is on the TSCA Inventory is available on the internet at https://www.epa.gov/tsca-inventory.

E. Important Information About SNUN Submissions

1. SNUN submissions.

According to 40 CFR 721.1(c), persons submitting a SNUN must comply with the same notification requirements and EPA regulatory procedures as persons submitting a PMN, including submission of test data on health and environmental effects as described in 40 CFR 720.50. SNUNs must be submitted on EPA Form No. 7710-25, generated using e-PMN software, and submitted to the Agency in accordance with the procedures set forth in 40 CFR 720.40. E-PMN software is available electronically at https://www.epa.gov/reviewing-new-chemicals-under-toxic-substances-control-act-tsca.

2. Development and submission of information with the SNUN.

EPA recognizes that TSCA section 5 does not require developing any particular new information (e.g., generating test data) before submission of a SNUN. There is an exception: If a person is otherwise required to submit information for a chemical substance subject to the SNUR pursuant to a rule, TSCA Order or consent agreement under TSCA section 4, then TSCA section 5(b)(1)(A) requires such information to be submitted to EPA at the time of submission of the SNUN.

In the absence of a rule, Order, or consent agreement under TSCA section 4 covering the chemical substance, persons are required only to submit information in their possession or control and to describe any other information known or reasonably ascertainable (see 40 CFR 720.50). However, upon review of PMNs and SNUNs, the Agency may determine under TSCA section 5(e) that it is necessary to require appropriate testing. Unit IV. lists potentially useful information for the SNURs listed in this document. Descriptions of this information is provided for informational purposes. The potentially useful information identified in Unit III. will be useful to EPA's evaluation in the event that someone submits a SNUN for the significant new use.

EPA strongly encourages persons to consult with the Agency before performing any testing. Furthermore, pursuant to TSCA section 4(h), which pertains to reduction of testing in vertebrate animals, EPA encourages dialog with the Agency on the use of alternative test methods and strategies (also called New Approach Methodologies, or NAMs), if available, to generate the recommended test data. EPA encourages dialog with Agency representatives to help determine how best the submitter can meet both the data needs and the objective of TSCA section 4(h). For more information on alternative test methods and strategies to reduce vertebrate animal testing, visit https://www.epa.gov/assessing-and-managing-chemicals-under-tsca/alternative-test-methods-and-strategies-reduce.

The potentially useful information listed in Unit III. may not be the only means of addressing the potential risks of the chemical substance. However, submitting a SNUN without any test data or other information may increase the likelihood that EPA will take action under TSCA sections 5(e) or 5(f). EPA recommends that potential SNUN submitters contact EPA early enough so that they will be able to conduct the appropriate tests.

SNUN submitters should be aware that EPA will be better able to evaluate SNUNs which provide detailed information on the following:

• Human exposure and environmental release that may result from the significant new use of the chemical substances.

• Information on risks posed by the chemical substances compared to risks posed by potential substitutes.

III. Substances Subject to This Proposed Rule

EPA is proposing significant new use and recordkeeping requirements for certain chemical substances in 40 CFR part 721, subpart E. EPA provides the following information for each chemical substance that is identified in this unit as subject to this proposed rule:

• PMN number (the proposed CFR citation assigned in the regulatory text section of the proposed rule).

• Chemical name (generic name, if the specific name is claimed as CBI).

• Chemical Abstracts Service (CAS) Registry number (if assigned for non-confidential chemical identities).

• Effective date of and basis for the TSCA Section 5(e) Order.

• Potentially Useful Information.

The chemicals subject to these proposed SNURs are as follows:

PMN Numbers (proposed 40 CFR citation): P-21-144 (40 CFR 721.11781), P-21-145 (40 CFR 721.11782), P-21-146 (40 CFR 721.11783), P-21-147 (40 CFR 721.11784), P-21-148 (40 CFR 721.11785), P-21-149 (40 CFR 721.11786), P-21-150 (40 CFR 721.11787), P-21-152 (40 CFR 721.11788), P-21-153 (40 CFR 721.11789), P-21-154 (40 CFR 721.11790), P-21-155 (40 CFR 721.11791), P-21-156 (40 CFR 721.11792), P-21-157 (40 CFR 721.11793), P-21-158 (40 CFR 721.11794), P-21-160 (40 CFR 721.11795), P-21-161 (40 CFR 721.11796), P-21-162 (40 CFR 721.11797), and P-21-163 (40 CFR 721.11798).

Chemical Names: Naphtha, heavy catalytic cracked (generic) (P-21-144), Naphtha, heavy alkylate (generic) (P-21-145), Naphtha, full range alkylate, butane-contg. (generic) (P-21-146), Naphtha, hydrotreated heavy (generic) (P-21-147), Naphtha, light catalytic cracked (generic) (P-21-148), Naphtha, light alkylate (generic) (P-21-149), Naphtha, hydrotreated light (generic) (P-21-150), Clarified oils, catalytic cracked (generic) (P-21-152), Distillates, hydrotreated heavy (generic) (P-21-153), Gas Oils hydrotreated vacuum (generic) (P-21-154), Distillates, light catalytic cracked (generic) (P-21-155), Distillates, clay-treated middle (P-21-156), Distillates, hydrotreated middle (generic) (P-21-157), Distillates, hydrotreated light (generic) (P-21-158), Gases, C4-rich (generic) (P-21-160), Gases, catalytic cracking (generic) (P-21-161), Residues, butane splitter bottoms (generic) (P-21-162), and Tail gas, saturate gas plant mixed stream, C4-rich (generic) (P-21-163).

CAS Numbers: Not available.

Effective Date of TSCA Order: August 25, 2022.

Basis for TSCA Order: The PMNs state that the uses will be as a fuel, fuel additive, fuel blending stock, or refinery feedstock (including, but not limited to cracking, coking, hydroprocessing, distillation, or deasphalting). Based on analogous mixtures and constituents of the PMN substances, EPA has identified concerns for skin and eye irritation, acute toxicity, systemic toxicity (neurotoxicity, body weight effects, and liver, kidney, blood, spleen, and other organ effects), reproductive and developmental toxicity, oral and inhalation portal entry effects, genetic toxicity, and carcinogenicity. Based on the petroleum chemical composition, EPA has also identified concerns for hydrocarbon pneumonia/aspiration hazard and respiratory tract irritation. Based on comparison to analogous fuel streams, EPA predicts toxicity to aquatic organisms may occur at concentrations that exceed 0.03 ppb. The Order was issued under TSCA sections 5(a)(3)(B)(ii)(I) and 5(e)(1)(A)(ii)(I), based on a finding that in the absence of sufficient information to permit a reasoned evaluation, the substance may present an unreasonable risk of injury to human health and the environment. To protect against these risks, the Order requires:

• No manufacture, processing, or use of the PMN substances other than for processing and use as a fuel, fuel additive, fuel blending stock, or refinery feedstock (including, but not limited to cracking, coking, hydroprocessing, distillation, or deasphalting) subject to 40 CFR part 79 or 1090;

• Use of personal protective equipment where there is a potential for dermal exposure; and

• Establishment of a hazard communication program.

The proposed SNUR would designate as a “significant new use” the absence of these protective measures. Additionally, the proposed SNUR would designate the following as a significant new use:

• Manufacture of the PMN substances using feedstocks containing any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2-pyrrolidone (NMP). For purposes of this SNUR PFAS or per- and poly-fluoroalkyl substance means a chemical substance that contains at least one of these three structures:

(i) R-(CF2)-CF(R′)R″, where both the CF2 and CF moieties are saturated carbons;

(ii) R-CF2OCF2-R′, where R and R′ can either be F, O, or saturated carbons; or

(iii) CF3C(CF3)R′R″, where R′ and R″ can either be F or saturated carbons.

Potentially Useful Information: EPA has determined that certain information may be potentially useful in support of a request by the PMN submitter to modify the Order, or if a manufacturer or processor is considering submitting a SNUN for a significant new use that will be designated by this SNUR. EPA has determined that the results of skin irritation, eye irritation, respiratory depression/irritation, hydrocarbon pneumonia/aspiration hazard, reproductive developmental toxicity, systemic toxicity, genetic toxicity, carcinogenicity, aquatic toxicity, and consumer inhalation exposure at gas station testing may be potentially useful to characterize the health and environmental effects of the PMN substances. Although the Order does not require these tests, the Order's restrictions remain in effect until the Order is modified or revoked by EPA based on submission of this or other relevant information.

IV. Statutory and Executive Order Reviews

Additional information about these statutes and Executive orders can be found at https://www.epa.gov/laws-regulations/laws-and-executive-orders.

A. Executive Orders 12866: Regulatory Planning and Review and 14094: Modernizing Regulatory Review

This action is exempt from review under Executive Order 12866 (58 FR 51735, October 4, 1993), as amended by Executive Order 14094 (88 FR 21879, April 11, 2023), because it will establish SNURs for several new chemical substances that were the subject of PMNs.

B. Paperwork Reduction Act (PRA)

This action does not impose any new information collection burden under the PRA, 44 U.S.C. 3501 et seq. OMB has previously approved the information collection activities contained in the existing SNUR regulations under OMB Control No. 2070-0038 (EPA ICR No. 1188.13). If an entity were to submit a SNUN to the Agency, the annual burden is estimated to be less than 100 hours per response, and the estimated burden for export notifications is less than 1.5 hours per notification. In both cases, if the firm submitting either a SNUN or export notification is already registered in CDX, the burden would be lower than the presented estimates.

An agency may not conduct or sponsor, and a person is not required to respond to a collection of information that requires OMB approval under the PRA, unless it has been approved by OMB and displays a currently valid OMB control number. The OMB control numbers for EPA's regulations in title 40 of the CFR, after appearing in the Federal Register, are listed in 40 CFR part 9, and included on the related collection instrument or form, if applicable.

Consistent with the PRA, EPA is interested in comments about the accuracy of the burden estimate, and any suggested methods for minimizing respondent burden or improving the automated collection techniques.

C. Regulatory Flexibility Act (RFA)

I certify this action will not have a significant economic impact on a substantial number of small entities under the RFA, 5 U.S.C. 601 et seq. The small entities subject to the requirements of this action are potential future manufacturers (defined by statute to include importers), processors, and exporters of one or more subject chemical substances for a significant new use designated in the proposed SNURs. The requirement to submit a SNUN applies to any person (including small or large entities) who intends to engage in any activity described in the final rule as a “significant new use.” Because these uses are “new,” based on all information currently available to EPA, the Agency has determined that no small or large entities presently engage in such activities. A SNUR requires that any person who intends to engage in such activity in the future must first notify EPA by submitting a SNUN. EPA's experience to date is that, in response to the promulgation of SNURs covering over 1,000 chemicals, the Agency receives only a small number of notices per year. For example, the number of SNUNs received was 10 in Federal fiscal year (FY) FY2016, 14 in FY2017, 16 in FY2018, five in FY2019, seven in FY2020, and 13 in FY2021, and only a fraction of these were from small businesses. In addition, the Agency currently offers relief to qualifying small businesses by reducing the SNUN submission fee from $19,020 to $3,330. This lower fee reduces the total reporting and recordkeeping of cost of submitting a SNUN to about $11,164 for qualifying small firms. Therefore, the potential economic impacts of complying with this proposed SNUR are not expected to be significant or adversely impact a substantial number of small entities. In a SNUR that published in the Federal Register of June 2, 1997 (62 FR 29684) (FRL-5597-1), the Agency presented its general determination that final SNURs are not expected to have a significant economic impact on a substantial number of small entities, which was provided to the Chief Counsel for Advocacy of the Small Business Administration.

D. Unfunded Mandates Reform Act (UMRA)

This action does not contain any unfunded mandates as described in UMRA, 2 U.S.C. 1531-1538, and does not significantly or uniquely affect small governments. Based on EPA's experience with proposing and finalizing SNURs, state, local, and tribal governments have not been impacted by these rulemakings, and EPA does not have any reasons to believe that any state, local, or tribal government will be impacted by this action. As such, EPA has determined that this proposed rule would not impose any enforceable duty, contain any unfunded mandate, or otherwise have any effect on small governments subject to the requirements of UMRA sections 202, 203, 204, or 205 (2 U.S.C. 1501 et seq.).

E. Executive Order 13132: Federalism

This action does not have federalism implications as specified in Executive Order 13132 (64 FR 43255, August 10, 1999), because it will not have a substantial direct effect on states, on the relationship between the national government and the states, or on the distribution of power and responsibilities among the various levels of government.

F. Executive Order 13175: Consultation and Coordination With Indian Tribal Governments

This action would not have tribal implications as specified in Executive Order 13175 (65 FR 67249, November 9, 2000), because it will not have substantial direct effects on tribal governments, on the relationship between the Federal Government and the Indian tribes, or on the distribution of power and responsibilities between the Federal Government and Indian tribes. This action will not significantly nor uniquely affect the communities of tribal governments, nor would it involve or impose any requirements that affect Indian tribes.

G. Executive Order 13045: Protection of Children From Environmental Health Risks and Safety Risks

EPA interprets Executive Order 13045 (62 FR 19885, April 23, 1997) as applying only to regulatory actions considered significant under section 3(f)(1) of Executive Order 12866 and that concern environmental health or safety risks that EPA has reason to believe may disproportionately affect children, per the definition of “covered regulatory action” in section 2-202 of Executive Order 13045. Since this is not a “covered regulatory action,” Executive Order 13045 does not apply. However, the EPA Policy on Children's Health does apply to the consideration of the SNUNs submitted to EPA in response to a SNUR.

SNURs do not address an existing children's environmental health concern because the chemical uses involved in the SNUR are not ongoing uses. SNURs require that persons notify EPA at least 90 days before commencing manufacture (defined by statute to include import) or processing the chemical substances for an activity that is designated as a significant new use by this rule. This notification allows EPA to assess the intended uses to identify potential risks and take appropriate actions before the activities commence, which includes the consideration of potentially exposed or susceptible subpopulations identified as relevant for the chemical under the intended uses identified in the SNUN.

H. Executive Order 13211: Actions Concerning Regulations That Significantly Affect Energy Supply, Distribution, or Use

This action is not subject to Executive Order 13211 (66 FR 28355, May 22, 2001), because it is not a “significant regulatory action” under Executive Order 12866.

I. National Technology Transfer and Advancement Act (NTTAA)

This action does not involve any technical standards under the NTTAA section 12(d) (15 U.S.C. 272 note).

J. Executive Orders 12898: Federal Actions To Address Environmental Justice in Minority Populations and Low-Income Populations

Executive Order 12898 (59 FR 7629, February 16, 1994) directs Federal agencies, to the greatest extent practicable and permitted by law, to make environmental justice part of their mission by identifying and addressing, as appropriate, disproportionately high and adverse human health or environmental effects of their programs, policies, and activities on minority populations (people of color and/or indigenous peoples) and low-income populations. This action is not subject to Executive Order 12898 (59 FR 7629, February 16, 1994) because it does not establish an environmental health or safety standard.

EPA believes that this action is not likely to result in new disproportionate and adverse effects on people of color, low-income populations and/or indigenous peoples because the chemical uses addressed in these SNURs are not ongoing uses. In addition, the notification required by these SNURs allows EPA to evaluate the SNUN to assess the intended uses to identify potential risks and take appropriate actions before the activities addressed in the SNUN commence, which includes the consideration of potentially exposed or susceptible subpopulations identified as relevant for the chemical under the intended uses identified in the SNUN.

List of Subjects in 40 CFR Part 721

Environmental protection, Chemicals, Hazardous substances, Reporting and recordkeeping requirements.

Dated: June 13, 2023.
Denise Keehner,
Director, Office of Pollution Prevention and Toxics.

Therefore, for the reasons stated in the preamble, EPA proposes to amend 40 CFR chapter I as follows:

PART 721—SIGNIFICANT NEW USES OF CHEMICAL SUBSTANCES

1. The authority citation for part 721 continues to read as follows:

Authority: 15 U.S.C. 2604, 2607, and 2625(c).

2. Add §§ 721.11781 through 721.11798 to read as follows:

Subpart E—Significant New Uses for Specific Chemical Substances

Sec.
* * * * *
721.11781 Naphtha, heavy catalytic cracked (generic).
721.11782 Naphtha, heavy alkylate (generic).
721.11783 Naphtha, full range alkylate, butane-contg. (generic).
721.11784 Naphtha, hydrotreated heavy (generic).
721.11785 Naphtha, light catalytic cracked (generic).
721.11786 Naphtha, light alkylate (generic).
721.11787 Naphtha, hydrotreated light (generic).
721.11788 Clarified oils, catalytic cracked (generic).
721.11789 Distillates, hydrotreated heavy (generic).
721.11790 Gas oils hydrotreated vacuum (generic).
721.11791 Distillates, light catalytic cracked (generic).
721.11792 Distillates, clay-treated middle (generic).
721.11793 Distillates, hydrotreated middle (generic).
721.11794 Distillates, hydrotreated light (generic).
721.11795 Gases, C4-rich (generic).
721.11796 Gases, catalytic cracking (generic).
721.11797 Residues, butane splitter bottoms (generic).
721.11798 Tail gas, saturate gas plant mixed stream, C4-rich (generic).

* * * * *

§ 721.11781 Naphtha, heavy catalytic cracked (generic).

(a) Chemical substance and significant new uses subject to reporting. (1) The chemical substance generically identified as naphtha, heavy catalytic cracked (PMN P-21-144) is subject to reporting under this section for the significant new uses described in paragraph (a)(2) of this section. The requirements of this section do not apply to quantities of the substance after they have been incorporated into a fuel, fuel additive, fuel blending stock, or use as a refinery feedstock (including, but not limited to cracking, coking, hydroprocessing, distillation, or deasphalting).

(2) The significant new uses are:

(i) Protection in the workplace. Requirements as specified in § 721.63(a)(1) and (3), (b) and (c). When determining which persons are reasonably likely to be exposed as required for § 721.63(a)(1), engineering control measures (e.g., enclosure or confinement of the operation, general and local ventilation) or administrative control measures (e.g., workplace policies and procedures) shall be considered and implemented to prevent exposure, where feasible. For purposes of § 721.63(b), the concentration is set at 0.1%.

(ii) Hazard communication. Requirements as specified in § 721.72(a).

(iii) Industrial, commercial, and consumer use. It is a significant new use to manufacture, process, or use the substance other than for processing and use as a fuel, fuel additive, fuel blending stock, or refinery feedstock (including, but not limited to cracking, coking, hydroprocessing, distillation, or deasphalting) subject to 40 CFR part 79 or 1090. It is a significant new use to manufacture the substance using feedstocks containing any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2-pyrrolidone (NMP). For purposes of this SNUR PFAS or per- and poly-fluoroalkyl substance means a chemical substance that contains at least one of these three structures:

(A) R-(CF2)-CF(R′)R″, where both the CF2 and CF moieties are saturated carbons;

(B) R-CF2OCF2-R′, where R and R′ can either be F, O, or saturated carbons; or

(C) CF3C(CF3)R′R″, where R′ and R″ can either be F or saturated carbons.

(b) Specific requirements. The provisions of subpart A of this part apply to this section except as modified by this paragraph (b).

(1) Recordkeeping. Recordkeeping requirements as specified in § 721.125(a) through (i), are applicable to manufacturers, importers, and processors of this substance.

(2) Limitation or revocation of certain notification requirements. The provisions of § 721.185 apply to this section.

(3) Exemptions. The exemption of § 721.45(i) does not apply to this section.

§ 721.11782 Naphtha, heavy alkylate (generic).

(a) Chemical substance and significant new uses subject to reporting. (1) The chemical substance generically identified as naphtha, heavy alkylate (PMN P-21-145) is subject to reporting under this section for the significant new uses described in paragraph (a)(2) of this section. The requirements of this section do not apply to quantities of the substance after they have been incorporated into a fuel, fuel additive, fuel blending stock, or use as a refinery feedstock (including, but not limited to cracking, coking, hydroprocessing, distillation, or deasphalting).

(2) The significant new uses are:

(i) Protection in the workplace. Requirements as specified in § 721.63(a)(1) and (3), (b) and (c). When determining which persons are reasonably likely to be exposed as required for § 721.63(a)(1), engineering control measures (e.g., enclosure or confinement of the operation, general and local ventilation) or administrative control measures (e.g., workplace policies and procedures) shall be considered and implemented to prevent exposure, where feasible. For purposes of § 721.63(b), the concentration is set at 0.1%.

(ii) Hazard communication. Requirements as specified in § 721.72(a).

(iii) Industrial, commercial, and consumer use. It is a significant new use to manufacture, process, or use the substance other than for processing and use as a fuel, fuel additive, fuel blending stock, or refinery feedstock (including, but not limited to cracking, coking, hydroprocessing, distillation, or deasphalting) subject to 40 CFR part 79 or 1090. It is a significant new use to manufacture the substance using feedstocks containing any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2-pyrrolidone (NMP). For purposes of this SNUR PFAS or per- and poly-fluoroalkyl substance means a chemical substance that contains at least one of these three structures:

(A) R-(CF2)-CF(R′)R″, where both the CF2 and CF moieties are saturated carbons;

(B) R-CF2OCF2-R′, where R and R′ can either be F, O, or saturated carbons; or

(C) CF3C(CF3)R′R″, where R′ and R″ can either be F or saturated carbons.

(b) Specific requirements. The provisions of subpart A of this part apply to this section except as modified by this paragraph (b).

(1) Recordkeeping. Recordkeeping requirements as specified in § 721.125(a) through (i), are applicable to manufacturers, importers, and processors of this substance.

(2) Limitation or revocation of certain notification requirements. The provisions of § 721.185 apply to this section.

(3) Exemptions. The exemption of § 721.45(i) does not apply to this section.

§ 721.11783 Naphtha, full range alkylate, butane-contg. (generic).

(a) Chemical substance and significant new uses subject to reporting. (1) The chemical substance generically identified as naphtha, full range alkylate, butane-contg. (PMN P-21-146) is subject to reporting under this section for the significant new uses described in paragraph (a)(2) of this section. The requirements of this section do not apply to quantities of the substance after they have been incorporated into a fuel, fuel additive, fuel blending stock, or use as a refinery feedstock (including, but not limited to cracking, coking, hydroprocessing, distillation, or deasphalting).

(2) The significant new uses are:

(i) Protection in the workplace. Requirements as specified in § 721.63(a)(1) and (3), (b) and (c). When determining which persons are reasonably likely to be exposed as required for § 721.63(a)(1), engineering control measures (e.g., enclosure or confinement of the operation, general and local ventilation) or administrative control measures (e.g., workplace policies and procedures) shall be considered and implemented to prevent exposure, where feasible. For purposes of § 721.63(b), the concentration is set at 0.1%.

(ii) Hazard communication. Requirements as specified in § 721.72(a).

(iii) Industrial, commercial, and consumer use. It is a significant new use to manufacture, process, or use the substance other than for processing and use as a fuel, fuel additive, fuel blending stock, or refinery feedstock (including, but not limited to cracking, coking, hydroprocessing, distillation, or deasphalting) subject to 40 CFR part 79 or 1090. It is a significant new use to manufacture the substance using feedstocks containing any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2-pyrrolidone (NMP). For purposes of this SNUR PFAS or per- and poly-fluoroalkyl substance means a chemical substance that contains at least one of these three structures:

(A) R-(CF2)-CF(R′)R″, where both the CF2 and CF moieties are saturated carbons;

(B) R-CF2OCF2-R′, where R and R′ can either be F, O, or saturated carbons; or

(C) CF3C(CF3)R′R″, where R′ and R″ can either be F or saturated carbons.

(b) Specific requirements. The provisions of subpart A of this part apply to this section except as modified by this paragraph (b).

(1) Recordkeeping. Recordkeeping requirements as specified in § 721.125(a) through (i), are applicable to manufacturers, importers, and processors of this substance.

(2) Limitation or revocation of certain notification requirements. The provisions of § 721.185 apply to this section.

(3) Exemptions. The exemption of § 721.45(i) does not apply to this section.

§ 721.11784 Naphtha, hydrotreated heavy (generic).

(a) Chemical substance and significant new uses subject to reporting. (1) The chemical substance generically identified as naphtha, hydrotreated heavy (PMN P-21-147) is subject to reporting under this section for the significant new uses described in paragraph (a)(2) of this section. The requirements of this section do not apply to quantities of the substance after they have been incorporated into a fuel, fuel additive, fuel blending stock, or use as a refinery feedstock (including, but not limited to cracking, coking, hydroprocessing, distillation, or deasphalting).

(2) The significant new uses are:

(i) Protection in the workplace. Requirements as specified in § 721.63(a)(1) and (3), (b) and (c). When determining which persons are reasonably likely to be exposed as required for § 721.63(a)(1), engineering control measures (e.g., enclosure or confinement of the operation, general and local ventilation) or administrative control measures (e.g., workplace policies and procedures) shall be considered and implemented to prevent exposure, where feasible. For purposes of § 721.63(b), the concentration is set at 0.1%.

(ii) Hazard communication. Requirements as specified in § 721.72(a).

(iii) Industrial, commercial, and consumer use. It is a significant new use to manufacture, process, or use the substance other than for processing and use as a fuel, fuel additive, fuel blending stock, or refinery feedstock (including, but not limited to cracking, coking, hydroprocessing, distillation, or deasphalting) subject to 40 CFR part 79 or 1090. It is a significant new use to manufacture the substance using feedstocks containing any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2-pyrrolidone (NMP). For purposes of this SNUR PFAS or per- and poly-fluoroalkyl substance means a chemical substance that contains at least one of these three structures:

(A) R-(CF2)-CF(R′)R″, where both the CF2 and CF moieties are saturated carbons;

(B) R-CF2OCF2-R′, where R and R′ can either be F, O, or saturated carbons; or

(C) CF3C(CF3)R′R″, where R′ and R″ can either be F or saturated carbons.

(b) Specific requirements. The provisions of subpart A of this part apply to this section except as modified by this paragraph (b).

(1) Recordkeeping. Recordkeeping requirements as specified in § 721.125(a) through (i), are applicable to manufacturers, importers, and processors of this substance.

(2) Limitation or revocation of certain notification requirements. The provisions of § 721.185 apply to this section.

(3) Exemptions. The exemption of § 721.45(i) does not apply to this section.

§ 721.11785 Naphtha, light catalytic cracked (generic).

(a) Chemical substance and significant new uses subject to reporting. (1) The chemical substance generically identified as naphtha, light catalytic cracked (PMN P-21-148) is subject to reporting under this section for the significant new uses described in paragraph (a)(2) of this section. The requirements of this section do not apply to quantities of the substance after they have been incorporated into a fuel, fuel additive, fuel blending stock, or use as a refinery feedstock (including, but not limited to cracking, coking, hydroprocessing, distillation, or deasphalting).

(2) The significant new uses are:

(i) Protection in the workplace. Requirements as specified in § 721.63(a)(1) and (3), (b) and (c). When determining which persons are reasonably likely to be exposed as required for § 721.63(a)(1), engineering control measures (e.g., enclosure or confinement of the operation, general and local ventilation) or administrative control measures (e.g., workplace policies and procedures) shall be considered and implemented to prevent exposure, where feasible. For purposes of § 721.63(b), the concentration is set at 0.1%.

(ii) Hazard communication. Requirements as specified in § 721.72(a).

(iii) Industrial, commercial, and consumer use. It is a significant new use to manufacture, process, or use the substance other than for processing and use as a fuel, fuel additive, fuel blending stock, or refinery feedstock (including, but not limited to cracking, coking, hydroprocessing, distillation, or deasphalting) subject to 40 CFR part 79 or 1090. It is a significant new use to manufacture the substance using feedstocks containing any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2-pyrrolidone (NMP). For purposes of this SNUR PFAS or per- and poly-fluoroalkyl substance means a chemical substance that contains at least one of these three structures:

(A) R-(CF2)-CF(R′)R″, where both the CF2 and CF moieties are saturated carbons;

(B) R-CF2OCF2-R′, where R and R′ can either be F, O, or saturated carbons; or

(C) CF3C(CF3)R′R″, where R′ and R″ can either be F or saturated carbons.

(b) Specific requirements. The provisions of subpart A of this part apply to this section except as modified by this paragraph (b).

(1) Recordkeeping. Recordkeeping requirements as specified in § 721.125(a) through (i), are applicable to manufacturers, importers, and processors of this substance.

(2) Limitation or revocation of certain notification requirements. The provisions of § 721.185 apply to this section.

(3) Exemptions. The exemption of § 721.45(i) does not apply to this section.

§ 721.11786 Naphtha, light alkylate (generic).

(a) Chemical substance and significant new uses subject to reporting. (1) The chemical substance generically identified as naphtha, light alkylate (PMN P-21-149) is subject to reporting under this section for the significant new uses described in paragraph (a)(2) of this section. The requirements of this section do not apply to quantities of the substance after they have been incorporated into a fuel, fuel additive, fuel blending stock, or use as a refinery feedstock (including, but not limited to cracking, coking, hydroprocessing, distillation, or deasphalting).

(2) The significant new uses are:

(i) Protection in the workplace. Requirements as specified in § 721.63(a)(1) and (3), (b) and (c). When determining which persons are reasonably likely to be exposed as required for § 721.63(a)(1), engineering control measures (e.g., enclosure or confinement of the operation, general and local ventilation) or administrative control measures (e.g., workplace policies and procedures) shall be considered and implemented to prevent exposure, where feasible. For purposes of § 721.63(b), the concentration is set at 0.1%.

(ii) Hazard communication. Requirements as specified in § 721.72(a).

(iii) Industrial, commercial, and consumer use. It is a significant new use to manufacture, process, or use the substance other than for processing and use as a fuel, fuel additive, fuel blending stock, or refinery feedstock (including, but not limited to cracking, coking, hydroprocessing, distillation, or deasphalting) subject to 40 CFR part 79 or 1090. It is a significant new use to manufacture the substance using feedstocks containing any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2-pyrrolidone (NMP). For purposes of this SNUR PFAS or per- and poly-fluoroalkyl substance means a chemical substance that contains at least one of these three structures:

(A) R-(CF2)-CF(R′)R″, where both the CF2 and CF moieties are saturated carbons;

(B) R-CF2OCF2-R′, where R and R′ can either be F, O, or saturated carbons; or

(C) CF3C(CF3)R′R″, where R′ and R″ can either be F or saturated carbons.

(b) Specific requirements. The provisions of subpart A of this part apply to this section except as modified by this paragraph (b).

(1) Recordkeeping. Recordkeeping requirements as specified in § 721.125(a) through (i), are applicable to manufacturers, importers, and processors of this substance.

(2) Limitation or revocation of certain notification requirements. The provisions of § 721.185 apply to this section.

(3) Exemptions. The exemption of § 721.45(i) does not apply to this section.

§ 721.11787 Naphtha, hydrotreated light (generic).

(a) Chemical substance and significant new uses subject to reporting. (1) The chemical substance generically identified as naphtha, hydrotreated light (PMN P-21-150) is subject to reporting under this section for the significant new uses described in paragraph (a)(2) of this section. The requirements of this section do not apply to quantities of the substance after they have been incorporated into a fuel, fuel additive, fuel blending stock, or use as a refinery feedstock (including, but not limited to cracking, coking, hydroprocessing, distillation, or deasphalting).

(2) The significant new uses are:

(i) Protection in the workplace. Requirements as specified in § 721.63(a)(1) and (3), (b) and (c). When determining which persons are reasonably likely to be exposed as required for § 721.63(a)(1), engineering control measures (e.g., enclosure or confinement of the operation, general and local ventilation) or administrative control measures (e.g., workplace policies and procedures) shall be considered and implemented to prevent exposure, where feasible. For purposes of § 721.63(b), the concentration is set at 0.1%.

(ii) Hazard communication. Requirements as specified in § 721.72(a).

(iii) Industrial, commercial, and consumer use. It is a significant new use to manufacture, process, or use the substance other than for processing and use as a fuel, fuel additive, fuel blending stock, or refinery feedstock (including, but not limited to cracking, coking, hydroprocessing, distillation, or deasphalting) subject to 40 CFR part 79 or 1090. It is a significant new use to manufacture the substance using feedstocks containing any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2-pyrrolidone (NMP). For purposes of this SNUR PFAS or per- and poly-fluoroalkyl substance means a chemical substance that contains at least one of these three structures:

(A) R-(CF2)-CF(R′)R″, where both the CF2 and CF moieties are saturated carbons;

(B) R-CF2OCF2-R′, where R and R′ can either be F, O, or saturated carbons; or

(C) CF3C(CF3)R′R″, where R′ and R″ can either be F or saturated carbons.

(b) Specific requirements. The provisions of subpart A of this part apply to this section except as modified by this paragraph (b).

(1) Recordkeeping. Recordkeeping requirements as specified in § 721.125(a) through (i), are applicable to manufacturers, importers, and processors of this substance.

(2) Limitation or revocation of certain notification requirements. The provisions of § 721.185 apply to this section.

(3) Exemptions. The exemption of § 721.45(i) does not apply to this section.

§ 721.11788 Clarified oils, catalytic cracked (generic).

(a) Chemical substance and significant new uses subject to reporting. (1) The chemical substance generically identified as clarified oils, catalytic cracked (PMN P-21-152) is subject to reporting under this section for the significant new uses described in paragraph (a)(2) of this section. The requirements of this section do not apply to quantities of the substance after they have been incorporated into a fuel, fuel additive, fuel blending stock, or use as a refinery feedstock (including, but not limited to cracking, coking, hydroprocessing, distillation, or deasphalting).

(2) The significant new uses are:

(i) Protection in the workplace. Requirements as specified in § 721.63(a)(1) and (3), (b) and (c). When determining which persons are reasonably likely to be exposed as required for § 721.63(a)(1), engineering control measures (e.g., enclosure or confinement of the operation, general and local ventilation) or administrative control measures (e.g., workplace policies and procedures) shall be considered and implemented to prevent exposure, where feasible. For purposes of § 721.63(b), the concentration is set at 0.1%.

(ii) Hazard communication. Requirements as specified in § 721.72(a).

(iii) Industrial, commercial, and consumer use. It is a significant new use to manufacture, process, or use the substance other than for processing and use as a fuel, fuel additive, fuel blending stock, or refinery feedstock (including, but not limited to cracking, coking, hydroprocessing, distillation, or deasphalting) subject to 40 CFR part 79 or 1090. It is a significant new use to manufacture the substance using feedstocks containing any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2-pyrrolidone (NMP). For purposes of this SNUR PFAS or per- and poly-fluoroalkyl substance means a chemical substance that contains at least one of these three structures:

(A) R-(CF2)-CF(R′)R″, where both the CF2 and CF moieties are saturated carbons;

(B) R-CF2OCF2-R′, where R and R′ can either be F, O, or saturated carbons; or

(C) CF3C(CF3)R′R″, where R′ and R″ can either be F or saturated carbons.

(b) Specific requirements. The provisions of subpart A of this part apply to this section except as modified by this paragraph (b).

(1) Recordkeeping. Recordkeeping requirements as specified in § 721.125(a) through (i), are applicable to manufacturers, importers, and processors of this substance.

(2) Limitation or revocation of certain notification requirements. The provisions of § 721.185 apply to this section.

(3) Exemptions. The exemption of § 721.45(i) does not apply to this section.

§ 721.11789 Distillates, hydrotreated heavy (generic).

(a) Chemical substance and significant new uses subject to reporting. (1) The chemical substance generically identified as distillates, hydrotreated heavy (PMN P-21-153) is subject to reporting under this section for the significant new uses described in paragraph (a)(2) of this section. The requirements of this section do not apply to quantities of the substance after they have been incorporated into a fuel, fuel additive, fuel blending stock, or use as a refinery feedstock (including, but not limited to cracking, coking, hydroprocessing, distillation, or deasphalting).

(2) The significant new uses are:

(i) Protection in the workplace. Requirements as specified in § 721.63(a)(1) and (3), (b) and (c). When determining which persons are reasonably likely to be exposed as required for § 721.63(a)(1), engineering control measures (e.g., enclosure or confinement of the operation, general and local ventilation) or administrative control measures (e.g., workplace policies and procedures) shall be considered and implemented to prevent exposure, where feasible. For purposes of § 721.63(b), the concentration is set at 0.1%.

(ii) Hazard communication. Requirements as specified in § 721.72(a).

(iii) Industrial, commercial, and consumer use. It is a significant new use to manufacture, process, or use the substance other than for processing and use as a fuel, fuel additive, fuel blending stock, or refinery feedstock (including, but not limited to cracking, coking, hydroprocessing, distillation, or deasphalting) subject to 40 CFR part 79 or 1090. It is a significant new use to manufacture the substance using feedstocks containing any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2-pyrrolidone (NMP). For purposes of this SNUR PFAS or per- and poly-fluoroalkyl substance means a chemical substance that contains at least one of these three structures:

(A) R-(CF2)-CF(R′)R″, where both the CF2 and CF moieties are saturated carbons;

(B) R-CF2OCF2-R′, where R and R′ can either be F, O, or saturated carbons; or

(C) CF3C(CF3)R′R″, where R′ and R″ can either be F or saturated carbons.

(b) Specific requirements. The provisions of subpart A of this part apply to this section except as modified by this paragraph (b).

(1) Recordkeeping. Recordkeeping requirements as specified in § 721.125(a) through (i), are applicable to manufacturers, importers, and processors of this substance.

(2) Limitation or revocation of certain notification requirements. The provisions of § 721.185 apply to this section.

(3) Exemptions. The exemption of § 721.45(i) does not apply to this section.

§ 721.11790 Gas oils hydrotreated vacuum (generic).

(a) Chemical substance and significant new uses subject to reporting. (1) The chemical substance generically identified as gas oils hydrotreated vacuum (PMN P-21-154) is subject to reporting under this section for the significant new uses described in paragraph (a)(2) of this section. The requirements of this section do not apply to quantities of the substance after they have been incorporated into a fuel, fuel additive, fuel blending stock, or use as a refinery feedstock (including, but not limited to cracking, coking, hydroprocessing, distillation, or deasphalting).

(2) The significant new uses are:

(i) Protection in the workplace. Requirements as specified in § 721.63(a)(1) and (3), (b) and (c). When determining which persons are reasonably likely to be exposed as required for § 721.63(a)(1), engineering control measures (e.g., enclosure or confinement of the operation, general and local ventilation) or administrative control measures (e.g., workplace policies and procedures) shall be considered and implemented to prevent exposure, where feasible. For purposes of § 721.63(b), the concentration is set at 0.1%.

(ii) Hazard communication. Requirements as specified in § 721.72(a).

(iii) Industrial, commercial, and consumer use. It is a significant new use to manufacture, process, or use the substance other than for processing and use as a fuel, fuel additive, fuel blending stock, or refinery feedstock (including, but not limited to cracking, coking, hydroprocessing, distillation, or deasphalting) subject to 40 CFR part 79 or 1090. It is a significant new use to manufacture the substance using feedstocks containing any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2-pyrrolidone (NMP). For purposes of this SNUR PFAS or per- and poly-fluoroalkyl substance means a chemical substance that contains at least one of these three structures:

(A) R-(CF2)-CF(R′)R″, where both the CF2 and CF moieties are saturated carbons;

(B) R-CF2OCF2-R′, where R and R′ can either be F, O, or saturated carbons; or

(C) CF3C(CF3)R′R″, where R′ and R″ can either be F or saturated carbons.

(b) Specific requirements. The provisions of subpart A of this part apply to this section except as modified by this paragraph (b).

(1) Recordkeeping. Recordkeeping requirements as specified in § 721.125(a) through (i), are applicable to manufacturers, importers, and processors of this substance.

(2) Limitation or revocation of certain notification requirements. The provisions of § 721.185 apply to this section.

(3) Exemptions. The exemption of § 721.45(i) does not apply to this section.

§ 721.11791 Distillates, light catalytic cracked (generic).

(a) Chemical substance and significant new uses subject to reporting. (1) The chemical substance generically identified as distillates, light catalytic cracked (PMN P-21-155) is subject to reporting under this section for the significant new uses described in paragraph (a)(2) of this section. The requirements of this section do not apply to quantities of the substance after they have been incorporated into a fuel, fuel additive, fuel blending stock, or use as a refinery feedstock (including, but not limited to cracking, coking, hydroprocessing, distillation, or deasphalting).

(2) The significant new uses are:

(i) Protection in the workplace. Requirements as specified in § 721.63(a)(1) and (3), (b) and (c). When determining which persons are reasonably likely to be exposed as required for § 721.63(a)(1), engineering control measures (e.g., enclosure or confinement of the operation, general and local ventilation) or administrative control measures (e.g., workplace policies and procedures) shall be considered and implemented to prevent exposure, where feasible. For purposes of § 721.63(b), the concentration is set at 0.1%.

(ii) Hazard communication. Requirements as specified in § 721.72(a).

(iii) Industrial, commercial, and consumer use. It is a significant new use to manufacture, process, or use the substance other than for processing and use as a fuel, fuel additive, fuel blending stock, or refinery feedstock (including, but not limited to cracking, coking, hydroprocessing, distillation, or deasphalting) subject to 40 CFR part 79 or 1090. It is a significant new use to manufacture the substance using feedstocks containing any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2-pyrrolidone (NMP). For purposes of this SNUR PFAS or per- and poly-fluoroalkyl substance means a chemical substance that contains at least one of these three structures:

(A) R-(CF2)-CF(R′)R″, where both the CF2 and CF moieties are saturated carbons;

(B) R-CF2OCF2-R′, where R and R′ can either be F, O, or saturated carbons; or

(C) CF3C(CF3)R′R″, where R′ and R″ can either be F or saturated carbons.

(b) Specific requirements. The provisions of subpart A of this part apply to this section except as modified by this paragraph (b).

(1) Recordkeeping. Recordkeeping requirements as specified in § 721.125(a) through (i), are applicable to manufacturers, importers, and processors of this substance.

(2) Limitation or revocation of certain notification requirements. The provisions of § 721.185 apply to this section.

(3) Exemptions. The exemption of § 721.45(i) does not apply to this section.

§ 721.11792 Distillates, clay-treated middle (generic).

(a) Chemical substance and significant new uses subject to reporting. (1) The chemical substance generically identified as distillates, clay-treated middle (PMN P-21-156) is subject to reporting under this section for the significant new uses described in paragraph (a)(2) of this section. The requirements of this section do not apply to quantities of the substance after they have been incorporated into a fuel, fuel additive, fuel blending stock, or use as a refinery feedstock (including, but not limited to cracking, coking, hydroprocessing, distillation, or deasphalting).

(2) The significant new uses are:

(i) Protection in the workplace. Requirements as specified in § 721.63(a)(1) and (3), (b) and (c). When determining which persons are reasonably likely to be exposed as required for § 721.63(a)(1), engineering control measures (e.g., enclosure or confinement of the operation, general and local ventilation) or administrative control measures (e.g., workplace policies and procedures) shall be considered and implemented to prevent exposure, where feasible. For purposes of § 721.63(b), the concentration is set at 0.1%.

(ii) Hazard communication. Requirements as specified in § 721.72(a).

(iii) Industrial, commercial, and consumer use. It is a significant new use to manufacture, process, or use the substance other than for processing and use as a fuel, fuel additive, fuel blending stock, or refinery feedstock (including, but not limited to cracking, coking, hydroprocessing, distillation, or deasphalting) subject to 40 CFR part 79 or 1090. It is a significant new use to manufacture the substance using feedstocks containing any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2-pyrrolidone (NMP). For purposes of this SNUR PFAS or per- and poly-fluoroalkyl substance means a chemical substance that contains at least one of these three structures:

(A) R-(CF2)-CF(R′)R″, where both the CF2 and CF moieties are saturated carbons;

(B) R-CF2OCF2-R′, where R and R' can either be F, O, or saturated carbons; or

(C) CF3C(CF3)R′R″, where R′ and R″ can either be F or saturated carbons.

(b) Specific requirements. The provisions of subpart A of this part apply to this section except as modified by this paragraph (b).

(1) Recordkeeping. Recordkeeping requirements as specified in § 721.125(a) through (i), are applicable to manufacturers, importers, and processors of this substance.

(2) Limitation or revocation of certain notification requirements. The provisions of § 721.185 apply to this section.

(3) Exemptions. The exemption of § 721.45(i) does not apply to this section.

§ 721.11793 Distillates, hydrotreated middle (generic).

(a) Chemical substance and significant new uses subject to reporting. (1) The chemical substance generically identified as distillates, hydrotreated middle (PMN P-21-157) is subject to reporting under this section for the significant new uses described in paragraph (a)(2) of this section. The requirements of this section do not apply to quantities of the substance after they have been incorporated into a fuel, fuel additive, fuel blending stock, or use as a refinery feedstock (including, but not limited to cracking, coking, hydroprocessing, distillation, or deasphalting).

(2) The significant new uses are:

(i) Protection in the workplace. Requirements as specified in § 721.63(a)(1) and (3), (b) and (c). When determining which persons are reasonably likely to be exposed as required for § 721.63(a)(1), engineering control measures (e.g., enclosure or confinement of the operation, general and local ventilation) or administrative control measures (e.g., workplace policies and procedures) shall be considered and implemented to prevent exposure, where feasible. For purposes of § 721.63(b), the concentration is set at 0.1%.

(ii) Hazard communication. Requirements as specified in § 721.72(a).

(iii) Industrial, commercial, and consumer use. It is a significant new use to manufacture, process, or use the substance other than for processing and use as a fuel, fuel additive, fuel blending stock, or refinery feedstock (including, but not limited to cracking, coking, hydroprocessing, distillation, or deasphalting) subject to 40 CFR part 79 or 1090. It is a significant new use to manufacture the substance using feedstocks containing any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2-pyrrolidone (NMP). For purposes of this SNUR PFAS or per- and poly-fluoroalkyl substance means a chemical substance that contains at least one of these three structures:

(A) R-(CF2)-CF(R′)R″, where both the CF2 and CF moieties are saturated carbons;

(B) R-CF2OCF2-R′, where R and R′ can either be F, O, or saturated carbons; or

(C) CF3C(CF3)R′R″, where R′ and R″ can either be F or saturated carbons.

(b) Specific requirements. The provisions of subpart A of this part apply to this section except as modified by this paragraph (b).

(1) Recordkeeping. Recordkeeping requirements as specified in § 721.125(a) through (i), are applicable to manufacturers, importers, and processors of this substance.

(2) Limitation or revocation of certain notification requirements. The provisions of § 721.185 apply to this section.

(3) Exemptions. The exemption of § 721.45(i) does not apply to this section.

§ 721.11794 Distillates, hydrotreated light (generic).

(a) Chemical substance and significant new uses subject to reporting. (1) The chemical substance generically identified as distillates, hydrotreated light (PMN P-21-158) is subject to reporting under this section for the significant new uses described in paragraph (a)(2) of this section. The requirements of this section do not apply to quantities of the substance after they have been incorporated into a fuel, fuel additive, fuel blending stock, or use as a refinery feedstock (including, but not limited to cracking, coking, hydroprocessing, distillation, or deasphalting).

(2) The significant new uses are:

(i) Protection in the workplace. Requirements as specified in § 721.63(a)(1) and (3), (b) and (c). When determining which persons are reasonably likely to be exposed as required for § 721.63(a)(1), engineering control measures (e.g., enclosure or confinement of the operation, general and local ventilation) or administrative control measures (e.g., workplace policies and procedures) shall be considered and implemented to prevent exposure, where feasible. For purposes of § 721.63(b), the concentration is set at 0.1%.

(ii) Hazard communication. Requirements as specified in § 721.72(a).

(iii) Industrial, commercial, and consumer use. It is a significant new use to manufacture, process, or use the substance other than for processing and use as a fuel, fuel additive, fuel blending stock, or refinery feedstock (including, but not limited to cracking, coking, hydroprocessing, distillation, or deasphalting) subject to 40 CFR part 79 or 1090. It is a significant new use to manufacture the substance using feedstocks containing any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2-pyrrolidone (NMP). For purposes of this SNUR PFAS or per- and poly-fluoroalkyl substance means a chemical substance that contains at least one of these three structures:

(A) R-(CF2)-CF(R′)R″, where both the CF2 and CF moieties are saturated carbons;

(B) R-CF2OCF2-R′, where R and R′ can either be F, O, or saturated carbons; or

(C) CF3C(CF3)R′R″, where R′ and R″ can either be F or saturated carbons.

(b) Specific requirements. The provisions of subpart A of this part apply to this section except as modified by this paragraph (b).

(1) Recordkeeping. Recordkeeping requirements as specified in § 721.125(a) through (i), are applicable to manufacturers, importers, and processors of this substance.

(2) Limitation or revocation of certain notification requirements. The provisions of § 721.185 apply to this section.

(3) Exemptions. The exemption of § 721.45(i) does not apply to this section.

§ 721.11795 Gases, C4-rich (generic).

(a) Chemical substance and significant new uses subject to reporting. (1) The chemical substance generically identified as gases, C4-rich (PMN P-21-160) is subject to reporting under this section for the significant new uses described in paragraph (a)(2) of this section. The requirements of this section do not apply to quantities of the substance after they have been incorporated into a fuel, fuel additive, fuel blending stock, or use as a refinery feedstock (including, but not limited to cracking, coking, hydroprocessing, distillation, or deasphalting).

(2) The significant new uses are:

(i) Protection in the workplace. Requirements as specified in § 721.63(a)(1) and (3), (b) and (c). When determining which persons are reasonably likely to be exposed as required for § 721.63(a)(1), engineering control measures (e.g., enclosure or confinement of the operation, general and local ventilation) or administrative control measures (e.g., workplace policies and procedures) shall be considered and implemented to prevent exposure, where feasible. For purposes of § 721.63(b), the concentration is set at 0.1%.

(ii) Hazard communication. Requirements as specified in § 721.72(a).

(iii) Industrial, commercial, and consumer use. It is a significant new use to manufacture, process, or use the substance other than for processing and use as a fuel, fuel additive, fuel blending stock, or refinery feedstock (including, but not limited to cracking, coking, hydroprocessing, distillation, or deasphalting) subject to 40 CFR part 79 or 1090. It is a significant new use to manufacture the substance using feedstocks containing any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2-pyrrolidone (NMP). For purposes of this SNUR PFAS or per- and poly-fluoroalkyl substance means a chemical substance that contains at least one of these three structures:

(A) R-(CF2)-CF(R′)R″, where both the CF2 and CF moieties are saturated carbons;

(B) R-CF2OCF2-R′, where R and R′ can either be F, O, or saturated carbons; or

(C) CF3C(CF3)R′R″, where R′ and R″ can either be F or saturated carbons.

(b) Specific requirements. The provisions of subpart A of this part apply to this section except as modified by this paragraph (b).

(1) Recordkeeping. Recordkeeping requirements as specified in § 721.125(a) through ((i), are applicable to manufacturers, importers, and processors of this substance.

(2) Limitation or revocation of certain notification requirements. The provisions of § 721.185 apply to this section.

(3) Exemptions. The exemption of § 721.45(i) does not apply to this section.

§ 721.11796 Gases, catalytic cracking (generic).

(a) Chemical substance and significant new uses subject to reporting. (1) The chemical substance generically identified as gases, catalytic cracking (PMN P-21-161) is subject to reporting under this section for the significant new uses described in paragraph (a)(2) of this section. The requirements of this section do not apply to quantities of the substance after they have been incorporated into a fuel, fuel additive, fuel blending stock, or use as a refinery feedstock (including, but not limited to cracking, coking, hydroprocessing, distillation, or deasphalting).

(2) The significant new uses are:

(i) Protection in the workplace. Requirements as specified in § 721.63(a)(1) and (3), (b) and (c). When determining which persons are reasonably likely to be exposed as required for § 721.63(a)(1), engineering control measures (e.g., enclosure or confinement of the operation, general and local ventilation) or administrative control measures (e.g., workplace policies and procedures) shall be considered and implemented to prevent exposure, where feasible. For purposes of § 721.63(b), the concentration is set at 0.1%.

(ii) Hazard communication. Requirements as specified in § 721.72(a).

(iii) Industrial, commercial, and consumer use. It is a significant new use to manufacture, process, or use the substance other than for processing and use as a fuel, fuel additive, fuel blending stock, or refinery feedstock (including, but not limited to cracking, coking, hydroprocessing, distillation, or deasphalting) subject to 40 CFR part 79 or 1090. It is a significant new use to manufacture the substance using feedstocks containing any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2-pyrrolidone (NMP). For purposes of this SNUR PFAS or per- and poly-fluoroalkyl substance means a chemical substance that contains at least one of these three structures:

(A) R-(CF2)-CF(R′)R″, where both the CF2 and CF moieties are saturated carbons;

(B) R-CF2OCF2-R′, where R and R′ can either be F, O, or saturated carbons; or

(C) CF3C(CF3)R′R″, where R′, and R″ can either be F or saturated carbons.

(b) Specific requirements. The provisions of subpart A of this part apply to this section except as modified by this paragraph (b).

(1) Recordkeeping. Recordkeeping requirements as specified in § 721.125(a) through (i), are applicable to manufacturers, importers, and processors of this substance.

(2) Limitation or revocation of certain notification requirements. The provisions of § 721.185 apply to this section.

(3) Exemptions. The exemption of § 721.45(i) does not apply to this section.

§ 721.11797 Residues, butane splitter bottoms (generic).

(a) Chemical substance and significant new uses subject to reporting. (1) The chemical substance generically identified as residues, butane splitter bottoms (PMN P-21-162) is subject to reporting under this section for the significant new uses described in paragraph (a)(2) of this section. The requirements of this section do not apply to quantities of the substance after they have been incorporated into a fuel, fuel additive, fuel blending stock, or use as a refinery feedstock (including, but not limited to cracking, coking, hydroprocessing, distillation, or deasphalting).

(2) The significant new uses are:

(i) Protection in the workplace. Requirements as specified in § 721.63(a)(1) and (3), (b) and (c). When determining which persons are reasonably likely to be exposed as required for § 721.63(a)(1), engineering control measures (e.g., enclosure or confinement of the operation, general and local ventilation) or administrative control measures (e.g., workplace policies and procedures) shall be considered and implemented to prevent exposure, where feasible. For purposes of § 721.63(b), the concentration is set at 0.1%.

(ii) Hazard communication. Requirements as specified in § 721.72(a).

(iii) Industrial, commercial, and consumer use. It is a significant new use to manufacture, process, or use the substance other than for processing and use as a fuel, fuel additive, fuel blending stock, or refinery feedstock (including, but not limited to cracking, coking, hydroprocessing, distillation, or deasphalting) subject to 40 CFR part 79 or 1090. It is a significant new use to manufacture the substance using feedstocks containing any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2-pyrrolidone (NMP). For purposes of this SNUR PFAS or per- and poly-fluoroalkyl substance means a chemical substance that contains at least one of these three structures:

(A) R-(CF2)-CF(R′)R″, where both the CF2 and CF moieties are saturated carbons;

(B) R-CF2OCF2-R′, where R and R′ can either be F, O, or saturated carbons; or

(C) CF3C(CF3)R′R″, where R′ and R″ can either be F or saturated carbons.

(b) Specific requirements. The provisions of subpart A of this part apply to this section except as modified by this paragraph (b).

(1) Recordkeeping. Recordkeeping requirements as specified in § 721.125(a) through (i), are applicable to manufacturers, importers, and processors of this substance.

(2) Limitation or revocation of certain notification requirements. The provisions of § 721.185 apply to this section.

(3) Exemptions. The exemption of § 721.45(i) does not apply to this section.

§ 721.11798 Tail gas, saturate gas plant mixed stream, C4-rich (generic).

(a) Chemical substance and significant new uses subject to reporting. (1) The chemical substance generically identified as tail gas, saturate gas plant mixed stream, C4-rich (PMN P-21-163) is subject to reporting under this section for the significant new uses described in paragraph (a)(2) of this section. The requirements of this section do not apply to quantities of the substance after they have been incorporated into a fuel, fuel additive, fuel blending stock, or use as a refinery feedstock (including, but not limited to cracking, coking, hydroprocessing, distillation, or deasphalting).

(2) The significant new uses are:

(i) Protection in the workplace. Requirements as specified in § 721.63(a)(1) and (3), (b) and (c). When determining which persons are reasonably likely to be exposed as required for § 721.63(a)(1), engineering control measures (e.g., enclosure or confinement of the operation, general and local ventilation) or administrative control measures (e.g., workplace policies and procedures) shall be considered and implemented to prevent exposure, where feasible. For purposes of § 721.63(b), the concentration is set at 0.1%.

(ii) Hazard communication. Requirements as specified in § 721.72(a).

(iii) Industrial, commercial, and consumer use. It is a significant new use to manufacture, process, or use the substance other than for processing and use as a fuel, fuel additive, fuel blending stock, or refinery feedstock (including, but not limited to cracking, coking, hydroprocessing, distillation, or deasphalting) subject to 40 CFR part 79 or 1090. It is a significant new use to manufacture the substance using feedstocks containing any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2-pyrrolidone (NMP). For purposes of this SNUR PFAS or per- and poly-fluoroalkyl substance means a chemical substance that contains at least one of these three structures:

(A) R-(CF2)-CF(R′)R″, where both the CF2 and CF moieties are saturated carbons;

(B) R-CF2OCF2-R′, where R and R′ can either be F, O, or saturated carbons; or

(C) CF3C(CF3)R′R″ where R′ and R″ can either be F or saturated carbons.

(b) Specific requirements. The provisions of subpart A of this part apply to this section except as modified by this paragraph (b).

(1) Recordkeeping. Recordkeeping requirements as specified in § 721.125(a) through (i), are applicable to manufacturers, importers, and processors of this substance.

(2) Limitation or revocation of certain notification requirements. The provisions of § 721.185 apply to this section.

(3) Exemptions. The exemption of § 721.45(i) does not apply to this section.

[FR Doc. 2023-13012 Filed 6-16-23; 8:45 am]

BILLING CODE 6560-50-P